DEPARTMENT OF LABOR

Mine Safety and Health Administration

30 CFR Parts 56 and 57

[Docket No. MSHA-2014-0030]

RIN 1219-AB87

Examinations of Working Places in Metal and Nonmetal Mines

AGENCY: Mine Safety and Health Administration, Labor.

ACTION: Proposed rule; delay of effective date.

SUMMARY: On January 23, 2017, the Mine Safety and Health Administration (MSHA) published a final rule in the Federal Register amending the Agency's standards for the examination of working places in metal and nonmetal mines. The effective date of this final rule is May 23, 2017. MSHA is proposing to delay the effective date of the final rule on Examinations of Working Places in Metal and Nonmetal Mines to assure that mine operators and miners affected by the examinations final rule have the training and compliance assistance they need prior to the rule's effective date. This proposed rule would delay the effective date of the final rule to July 24, 2017. MSHA is soliciting comments on the limited issue of whether to extend the effective date to July 24, 2017, and whether this extension offers an appropriate length of time for MSHA to provide stakeholders training and compliance assistance.

DATES: Comment Deadline: April 26, 2017.

ADDRESSES: Submit comments, identified by RIN 1219-AB87 or Docket No. MSHA-2014-0030, by one of the following methods:

• Federal E-Rulemaking Portal: http://www.regulations.gov. Follow the on-line instructions for submitting comments.

• Email: zzMSHA-comments@dol.gov.

• Mail: MSHA, Office of Standards, Regulations, and Variances, 201 12th Street South, Suite 4E401, Arlington, Virginia 22202-5452.

• Hand Delivery or Courier: 201 12th Street South, Suite 4E401, Arlington, Virginia, between 9:00 a.m. and 5:00 p.m. Monday through Friday, except Federal holidays. Sign in at the receptionist's desk on the 4th Floor East, Suite 4E401.

• Fax: 202-693-9441.

Instructions: All submissions must include RIN 1219-AB87 or Docket No. MSHA-2014-0030. Do not include personal information that you do not want publicly disclosed; MSHA will post all comments without change, including any personal information provided.

Docket: For access to the docket to read comments received, go to http://www.regulations.gov or http://www.msha.gov/currentcomments.asp. To read background documents, go to http://www.regulations.gov. Review the docket in person at MSHA, Office of Standards, Regulations, and Variances, 201 12th Street South, Arlington, Virginia, between 9:00 a.m. and 5:00 p.m. EST Monday through Friday, except Federal holidays. Sign in at the receptionist's desk on the 4th Floor East, Suite 4E401.

E-Mail Notification: To subscribe to receive an email notification when MSHA publishes rules in the Federal Register, go to http://www.msha.gov.

FOR FURTHER INFORMATION CONTACT: Sheila A. McConnell, Director, Office of Standards, Regulations, and Variances, MSHA, at mcconnell.sheila.a@dol.gov (email); 202-693-9440 (voice); or 202-693-9441 (facsimile).

SUPPLEMENTARY INFORMATION:

I. Delay of Effective Date

On January 23, 2017, MSHA published a Final Rule in the Federal Register (82 FR 7680) amending the Agency's standards for the examination of working places in metal and nonmetal mines. The final rule was scheduled to become effective on May 23, 2017. On January 20, 2017, the Chief of Staff of the White House released a memorandum titled “Regulatory Freeze Pending Review” to “ensure that the President's appointees or designees have the opportunity to review any new or pending regulations . . . .” 82 FR 8346, January 24, 2017. Among other things, the memorandum directed the heads of executive departments and agencies to consider temporarily postponing the effective dates of all regulations that had been published in the Federal Register but had not yet taken effect.

In keeping with MSHA's standard implementation practices, MSHA would develop and distribute additional compliance assistance materials to post on the Agency's Web site (www.msha.gov). Compliance assistance materials would include templates for workplace examinations for different mining environments that would facilitate compliance and minimize mine operator recordkeeping burden. MSHA would make these compliance assistance materials available at a number of informational stakeholder meetings at various locations around the country. MSHA also understands that mine operators may need time to adjust schedules, develop additional recordkeeping capacity, and in other ways modify the way they currently do business to comply with the rule. For these reasons, MSHA is proposing to extend the rule's effective date to July 24, 2017.

MSHA is committed to assuring that mine operators and miners affected by the examinations final rule have the training and compliance assistance they need prior to the rule's effective date. As part of the outreach and compliance assistance process, MSHA would consider issues raised by stakeholders and consider further extending the effective date in order to determine if these issues can be reasonably addressed through compliance assistance and training. MSHA also seeks comments regarding the appropriate length of the proposed extension.

Patricia W. Silvey,
Deputy Assistant Secretary of Labor for Mine Safety and Health.

[FR Doc. 2017-05979 Filed 3-24-17; 8:45 am]

BILLING CODE 4510-43-P